DEPARTMENT OF ENERGY

Federal Energy Regulatory Commission

[Docket No. PL04-11-000, PA04-14-000, EL04-52-000, ER03-262-009 et al., ER04-691-000 and EL04-104-000, ER04-367-000 et al., ER04-521-001 et al., ER04-375-000 et al., ER04-364-000, PL04-5-000]

Summer 2004 Reliability Workshop, Ohio Edison Company, Toledo Edison Company, Cleveland Electric Illuminating Company, and Pennsylvania Power Company, Reporting by Transmission Providers on Vegetation Management Practices Related to Designated Transmission Facilities, New PJM Companies, et al., Midwest Independent Transmission, System Operator, Inc. et al., PJM Interconnection, LLC et al., PJM Interconnection, LLC, Midwest Independent Transmission System Operator, Inc. et al., Commonwealth Edison Company et al., Policy Statement on Matters Related to Bulk Power System Reliability; Notice of Technical Conference

June 21, 2004.

Take notice that a technical conference will be held to address what steps have been taken to prevent a blackout reoccurrence and discuss related reliability issues in the Midwest for the Summer 2004, on Thursday, July 15, from approximately 9 a.m. to 4:30 p.m. (eastern daylight time) at the Renaissance Cleveland Hotel, 24 Public Square, Cleveland, Ohio. Members of the Commission will attend and participate in the discussions.

The Renaissance Cleveland Hotel is holding a block of rooms for attendees at the rate of $139 for the evening of July 14. For reservations call 1-800-HOTELS-1 or (216) 696-5600.

The conference is open for the public to attend, and registration is not required; however, in-person attendees are asked to register for the conference on-line by close of business on Thursday, July 8, at http://www.ferc.gov/whats-new/registration/reliability-workshop-0715-form.asp.

A tentative agenda for this meeting is included with this notice as Attachment A. The discussion covers responses to the 2003 blackout, preparations for Summer 2004, electricity infrastructure issues, and longer-term reliability issues. A more detailed agenda, with a list of speakers, will be published at a later time.

The meeting was established in response to an invitation by Governor Bob Taft of Ohio to convene a public forum and technical conference to address these issues. The conference will also enjoy the participation of members of the Public Utilities Commission of Ohio.

Transcripts of the conference will be immediately available from Ace Reporting Company ((202) 347-3700 or 1-800-336-6646) for a fee. They will be available for the public on the Commission's eLibrary system seven calendar days after FERC receives the transcript. Additionally, Capitol Connection offers the opportunity for remote listening of the conference via Real Audio or a Phone Bridge Connection for a fee. Persons interested in making arrangements should contact David Reininger or Julia Morelli at the Capitol Connection ((703) 993-3100) as soon as possible or visit the Capitol Connection Web site at http://www.capitolconnection.org and click on “FERC.”

For more information about the conference, please contact Sarah McKinley at (202) 502-8004 or sarah.mckinley@ferc.gov.

Magalie R. Salas,
Secretary.

Attachment A

Agenda

9 a.m.—Opening comments: Chairman Pat Wood, Federal Energy Regulatory Commission; Governor Bob Taft of Ohio; Chairman Alan R. Schriber, Public Utilities Commission of Ohio.

9:20 a.m.—Preparations for summer 2004: First Energy, improvements to grid operations and practices, implementation of NERC recommendations; AEP, operations and summer preparation; Midwest ISO, software, operations, communications; PJM, discussion of Commonwealth Edison and AEP integration, the common market, operations and communications; TVA, operations and preparations; NERC, blackout mitigation recommendations and implementation; Vegetation Management status, speaker from NARUC or FERC; Audience Participation.

11:20 a.m.—Break.

11:40 a.m.—Midwest Infrastructure Issues (OH, MI, WI, IL, IN, KY, TN, WV). Jeff Wright, FERC—Update on Midwest electric and gas infrastructure. MISO—Midwest transmission planning, issues and prospects. Audience Participation.

12:40 p.m.—Lunch Break.

2 p.m.—Longer-Term Reliability Issues: DOE, Implementation of blackout recommendations; NERC, Reliability readiness audits; NERC reliability standards; State-level actions—Regulators representing NARUC, Ohio, Michigan, New York, Indiana; Audience participation.

4 p.m.—Next Steps: Commitments and Recommendations: Discussion with FERC and State Regulators, DOE, and audience.

4:30 p.m.—Adjourn.

[FR Doc. E4-1439 Filed 6-28-04; 8:45 am]

BILLING CODE 6717-01-P